DEPARTMENT OF THE INTERIOR

Bureau of Land Management

[NV-952-06-1420-BJ]

Filing of Plats of Survey; Nevada

AGENCY: Bureau of Land Management.

ACTION: Notice.

SUMMARY: The purpose of this notice is to inform the public and interested State and local government officials of the filing of Plats of Survey in Nevada.

EFFECTIVE DATES: Filing is effective at 10 a.m. on the date indicated below.

FOR FURTHER INFORMATION CONTACT: David D. Morlan, Chief, Branch of Geographic Sciences, Bureau of Land Management (BLM), Nevada State Office, 1340 Financial Blvd., P.O. Box 12000, Reno, Nevada 89520, 775-861-6541.

SUPPLEMENTARY INFORMATION: 1. The Supplemental Plat of the following described lands was officially filed at the Nevada State Office, Reno, Nevada, on April 28, 2006: The supplemental plat, showing a subdivision of lot 5, section 7, Township 19 South, Range 60 East, Mount Diablo Meridian, Nevada, was accepted April 27, 2006. This supplemental plat was prepared to meet certain administrative needs of the Bureau of Land Management.

2. The above-listed survey is now the basic record for describing the lands for all authorized purposes. This survey has been placed in the open files in the BLM Nevada State Office and is available to the public as a matter of information. Copies of the survey may be furnished to the public upon payment of the appropriate fees.

Dated: July 7, 2006.
David D. Morlan,
Chief Cadastral Surveyor, Nevada.

[FR Doc. E6-11451 Filed 7-18-06; 8:45 am]

BILLING CODE 4310-HC-P